DELAWARE RIVER BASIN COMMISSION

Notice of Commission Meeting and Public Hearing

Notice is hereby given that the Delaware River Basin Commission will hold an informal conference followed by a public hearing on Wednesday, April 21, 2004. The hearing will be part of the Commission's regular business meeting. Both the conference session and business meeting are open to the public and will be held at the New York State Department of Environmental Conservation (NYSDEC) office building at 625 Broadway in Albany, New York.

The conference among the commissioners and staff will begin at 10 a.m. Topics of discussion will include: an update on the development and completion of the Water Resources Plan for the Delaware River Basin; a presentation and discussion regarding responses to comments on the proposed Resolution To Establish an Experimental Augmented Conservation Release Program for the New York City Delaware Basin Reservoirs for the Period Beginning May 1, 2004 and Ending May 31, 2007; an update on proposed Water Quality Standards revisions; a presentation and discussion regarding the proposed designation of the lower Delaware River as a Special Protection Water; a proposed rule change authorizing the Commission to require waste minimization plans from point source dischargers; and a presentation on the status of New York State's map modernization and flood plain mapping program.

The subjects of the public hearing to be held during the 2 p.m. business meeting include the dockets listed below:

1. Greater Pottsville Area Sewer Authority D-2002-41 CP. An application to replace a 4.5 million gallon per day (mgd) Sewage Treatment Plant (STP) with a new 8.2 mgd plant which will continue to provide secondary treatment via a conventional extended aeration system. The project is located on the west side of Route 61, about 0.2 miles northwest of its intersection with SR2015. The expansion is needed to phase-out the applicant's West End STP and to also connect and treat flows from some on-lot septic systems. The applicant will serve Pottsville City, portions of the Boroughs of Mechanicsville, Mount Carbon, Palo Alto, and Port Carbon, plus Norwegian, East Norwegian, and North Manheim Townships, all in Schuylkill County, Pennsylvania. STP effluent will continue to be discharged to the Schuylkill River.

2. Slatington Borough and Slatington Borough Authority D-2003-15 CP. An application to rerate a 0.995 mgd sewage treatment plant to process 1.5 mgd, while continuing to provide secondary treatment. The project STP is located just west of the Lehigh River to which it discharges in the Borough of Slatington, Lehigh County, Pennsylvania. The plant will continue to serve Slatington Borough and a small portion of Washington Township, both in Lehigh County, and the Borough of Walnutport in Northampton County, Pennsylvania. The project is located in the Lower Delaware River Management Plan drainage area.

3. Aqua Pennsylvania, Inc. (formerly Pennsylvania Suburban Water Company) D-2003-33 CP. An application to transfer up to 0.5 million gallons per day (mgd) (15 mg/30 days) of potable water from Downingtown Municipal Authority (DMUA) to the applicant's distribution system via a proposed interconnection. DMUA has adequate capacity to meet the applicant's needs within their existing 2.5 mgd water allocation from the East Branch Brandywine Creek, as supported by releases from Marsh Creek Reservoir. The 0.5 mgd water transfer represents an alternative to and is proposed in lieu of the use of water supply from the applicant's previously approved Cornog Quarry project (approved under DRBC Docket No. D-98-11 CP on April 3, 2002). DRBC Resolution No. 2003-22, dated October 15, 2003, suspended the authority to proceed with the surface water components of Docket D-98-11 CP. Docket D-98-11 CP remains suspended. The proposed Docket D-2003-33 CP will also consolidate all the applicant's sources in the UGS Northern Division distribution system, including those previously approved under Docket Nos. D-98-11 CP and D-2002-5 CP, including the use of Kay Wells B and C on other than a seasonal basis. Upon Docket D-2003-33 CP becoming effective, Docket Nos. D-98-11 CP and D-2002-5 CP will be rescinded. The project will serve portions of East Brandywine, West Brandywine and Caln Townships, all located in Chester County, Pennsylvania.

4. Northampton Borough Municipal Authority D-2004-13 CP. An application to construct new water treatment plant process wastewater treatment facilities to process potable water filtration plant backwash and rinse water to be located approximately 1,000 feet north of the intersection of Second Avenue and Roosevelt Boulevard in North Whitehall Township, Lehigh County. The permit proposes an average daily treated wastewater discharge of 0.311 million gallons per day (mgd) compared to 0.0833 mgd under an existing permit. The existing discharge location will be relocated approximately 200 feet downstream on Spring Creek approximately 500 feet from its confluence with the Lehigh River in Whitehall Township. The proposed wastewater treatment facilities will provide clarification and de-chlorination prior to discharge. The project is located in the Lower Delaware River Management Plan drainage area, approximately 24.7 river miles upstream from the Delaware River. The project will continue to serve the Boroughs of Northampton and North Catasauqua and a portion of Allen Township in Northampton County; and the Borough of Coplay plus portions of North Whitehall and Whitehall Townships in Lehigh County, all in Pennsylvania.

5. Creek Road Development, L.P. D-2004-18. An application for approval of a ground water withdrawal project to provide up to 8.6 million gallons (mg)/30 days of water for supplemental irrigation of the applicant's proposed golf course from one existing well, designated Ramex No. 1 in the Stockton Formation. In conjunction with the ground water withdrawal, the golf course will also receive supplemental irrigation from treated effluent from the adjacent Country Crossing Waste Water Treatment Plant. The project is located in the Little Neshaminy Creek Watershed in Warwick Township, Bucks County, Pennsylvania and is located in the Southeastern Ground Water Protected Area.

6. Riverfront Development Corporation of Delaware D-2004-19. An application for approval of a wetland enhancement project to restore and enhance an approximately 200-acre area of tidal marsh located on the Christina River, at the Russell W. Peterson Urban Wildlife Refuge. The project is located in the Brandywine-Christina Watershed in the City of Wilmington, New Castle County, Delaware.

The Commission's 2 p.m. business meeting also will include a resolution to establish an experimental augmented conservation release program for the New York City Delaware Basin Reservoirs for the period from May 1, 2004 through May 31, 2007 or a resolution to extend the existing release program or take other provisional action. In addition, the meeting will include: Adoption of the Minutes of the March 3, 2004 business meeting; announcements; a report on Basin hydrologic conditions; a report by the executive director; and a report by the Commission's general counsel.

Draft dockets scheduled for public hearing on April 21, 2004 are posted on the Commission's Web site, http://www.drbc.net, where they can be accessed through the Notice of Commission Meeting and Public Hearing. Additional documents relating to the dockets and other items may be examined at the Commission's offices. Please contact William Muszynski at 609-883-9500 ext. 221 with any docket-related questions.

Individuals in need of an accommodation as provided for in the Americans with Disabilities Act who wish to attend the informational meeting, conference session or hearings should contact the Commission secretary directly at 609-883-9500 ext. 203 or through the Telecommunications Relay Services (TRS) at 711, to discuss how the Commission may accommodate your needs.

Dated: April 6, 2004.
Pamela M. Bush,
Commission Secretary.

[FR Doc. 04-8182 Filed 4-9-04; 8:45 am]

BILLING CODE 6360-01-P